MERIT SYSTEMS PROTECTION BOARD

5 CFR Part 1204

Availability of Official Information

AGENCY: Merit Systems Protection Board.

ACTION: Final rule.

SUMMARY: The Merit Systems Protection Board (MSPB or the Board) is amending its rules in this part to reflect the relocation of its Washington, DC, headquarters. On July 24, 2000, the Board relocated its headquarters offices from 1120 Vermont Avenue, NW, to 1615 M Street, NW. The amendments to this part advise interested persons that official information is available for public review and copying at the Board's Headquarters Library at the new address, that requests for records located at headquarters must be sent to the Clerk of the Board at the new address, and that appeals of denials of requests for records must be filed with the Chairman at the new address.

EFFECTIVE DATE: August 10, 2000.

FOR FURTHER INFORMATION CONTACT: Robert E. Taylor, Clerk of the Board, (202) 653-7200.

The Board is publishing this rule as a final rule pursuant to 5 U.S.C. 1204(h).

List of Subjects in 5 CFR Part 1204

Confidential business information, Freedom of information, Privacy.

Accordingly, the Board amends 5 CFR part 1204 as follows:

PART 1204—AVAILABILITY OF OFFICIAL INFORMATION

1. The authority citation for part 1204 continues to read as follows:

Authority: 5 U.S.C. 552 and 1204, Pub. L. 99-570, Pub. L. 104-231, and EO 12600.

§ 1204.2 [Amended]

2. Amend 5 CFR 1204.2 at paragraph (d) by removing “1120 Vermont Avenue, NW.” and by adding in its place “1615 M Street, NW.”

§ 1204.11 [Amended]

3. Amend 5 CFR 1204.11 at paragraph (a) by removing “1120 Vermont Avenue, NW.” and by adding in its place “1615 M Street, NW.”

§ 1204.21 [Amended]

4. Amend 5 CFR 1204.21 at paragraph (b) by removing “1120 Vermont Avenue, NW.” and by adding in its place “1615 M Street, NW.”

Dated: August 4, 2000.
Robert E. Taylor,
Clerk of the Board.

[FR Doc. 00-20218 Filed 8-9-00; 8:45 am]

BILLING CODE 7400-01-M